NUCLEAR REGULATORY COMMISSION

[Docket No. 72-26-ISFSI, ASLBP No. 02-801-01-ISFSI]

Pacific Gas and Electric Company; Establishment of Atomic Safety and Licensing Board

Pursuant to delegation by the Commission dated December 29, 1972, published in the Federal Register, 37 FR 28,710 (1972), and Sections 2.105, 2.700, 2.702, 2.714, 2.714a, 2.717, 2.721, and 2.772(j) of the Commission's Regulations, all as amended, an Atomic Safety and Licensing Board is being established to rule on petitions for hearing and for leave to intervene and to preside over the following proceeding: Pacific Gas and Electric Company, Diablo Canyon Power Plant (Independent Spent Fuel Storage Installation).

This Licensing Board is being established pursuant to an April 12, 2002 “Notice of Docketing, Notice of Proposed Action, and Notice of Opportunity for a Hearing for a Materials License for the Diablo Canyon Independent Spent Fuel Storage Installation [(ISFSI)]” (67 Fed. Reg. 19,600 (Apr. 22, 2002)). The proceeding involves an application by Pacific Gas and Electric Company for the issuance of a license under the provisions of 10 C.F.R. Part 72, to store spent fuel and other radioactive material in an ISFSI on the Diablo Canyon Power Plant site in San Luis Obispo County, California. Intervention petitions/hearing requests regarding the license were filed by Lorraine Kitman (May 8, 2002); San Luis Obispo County Supervisor Peg Pinard and the Avila Valley Advisory Council (May 22, 2002); and the San Luis Obispo Mothers for Peace, on behalf of itself and other organizations (May 22, 2002).

The Board is comprised of the following administrative judges:

Administrative Judge G. Paul Bollwerk, III, Chair, Atomic Safety and Licensing Board Panel, U.S. Nuclear Regulatory Commission, Washington, DC 20555-0001.

Administrative Judge Peter S. Lam, Atomic Safety and Licensing Board Panel, U.S. Nuclear Regulatory Commission, Washington, DC 20555-0001.

Administrative Judge Jerry R. Kline, Atomic Safety and Licensing Board Panel, U.S. Nuclear Regulatory Commission, Washington, DC 20555-0001.

All correspondence, documents, and other materials shall be filed with the administrative judges in accordance with 10 CFR 2.701.

Issued at Rockville, Maryland, this 31st day of May, 2002.
G. Paul Bollwerk III,
Chief Administrative Judge, Atomic Safety and Licensing Board Panel.

[FR Doc. 02-14172 Filed 6-5-02; 8:45 am]

BILLING CODE 7590-01-P